DEPARTMENT OF HOMELAND SECURITY

Federal Emergency Management Agency

44 CFR Part 67

[Docket No. FEMA-P-7667]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground ◆Elevation in feet (NAVD): Existing | #Depth in feet above ground ◆Elevation in feet (NAVD): Modified
TX | New Braunfels (City) Comal and Guadalupe Counties | Blieders Creek (Upper Reach) | Approximately 730 feet downstream of State Highway 46 | None | ◆815
|  |  | Approximately .52 mile upstream of Horseshoe Trail | None | ◆858
|  | Comal River/Dry Comal Creek | At the confluence with the Guadalupe River | ◆604 | ◆617
|  |  | Approximately 1,200 feet upstream of Krueger Canyon Road | ◆663 | ◆666
|  | Comal Springs/Blieders Creek | At the convergence with the New Channel Comal River and Old Channel Comal River | ◆623 | ◆625
|  |  | Approximately .41 mile upstream of River Road | None | ◆673
|  | Guadalupe River | Approximately .65 mile downstream of the confluence of North Guadalupe Tributary | ◆586 | ◆598
|  |  | Approximately 420 feet upstream of the Union Pacific Railroad | ◆626 | ◆635
|  | New Channel Comal River | At the convergence with Dry Comal Creek | ◆618 | ◆625
|  |  | At the divergence from the Old Channel Comal River and Comal Springs | ◆623 | ◆625
|  | North Guadalupe Tributary | At the confluence with the Guadalupe River | ◆591 | ◆602
|  |  | Approximately 100 feet upstream of FM 1044/Old Marion Road | ◆679 | ◆678
|  | Old Channel Comal River | At the confluence with the Comal River | ◆611 | ◆618
|  |  | At the divergence from the New Channel Comal River and Comal Springs | ◆623 | ◆625
|  | South Guadalupe Tributary | At the confluence with the North Guadalupe Tributary | ◆596 | ◆602
|  |  | Approximately 100 feet upstream of FM 1044/Old Marion Road | ◆671 | ◆672
Maps are available for inspection at the New Braunfels Municipal Building, 424 South Castell Avenue, P.O. Box 311747, New Braunfels, Texas.
Send comments to The Honorable Adam Cork, Mayor, City of New Braunfels, New Braunfels Municipal Building, 424 South Castell Avenue, P.O. Box 311747, New Braunfels, Texas 78131-1745.

(Catalog of Federal Domestic Assistance No. 83.100, “Flood Insurance”)
Dated: January 28, 2005.
David I. Maurstad,
Acting Director, Mitigation Division, Emergency Preparedness and Response Directorate.

[FR Doc. 05-2117 Filed 2-3-05; 8:45 am]

BILLING CODE 9110-12-P